DEPARTMENT OF THE INTERIOR

Bureau of Land Management

[LLAK-963000-L1410000-FQ0000; AA-5964, AA-3060, AA-5934]

Public Land Order No. 7770; Extension of Public Land Order No. 6884; Alaska

AGENCY: Bureau of Land Management, Interior.

ACTION: Public Land Order.

SUMMARY: This order extends the duration of the withdrawal created by Public Land Order No. 6884, for an additional 20-year period. The extension is necessary to continue to protect the recreational values of the United States Forest Service's Kenai River Recreation Area, the Russian River Campground Area, and the Lower Russian Lake Recreation Area.

DATES: Effective Date: October 2, 2011.

FOR FURTHER INFORMATION CONTACT: Robert L. Lloyd, Bureau of Land Management, Alaska State Office, 222 West Seventh Avenue, #13, Anchorage, Alaska 99513; 907-271-4682. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The purpose for which the withdrawal was first made requires this extension in order to continue to protect the recreational values of the Kenai River Recreation Area, the Russian River Campground Area, and the Lower Russian Lake Recreation Area. The withdrawal extended by this order will expire on October 1, 2031, unless as a result of a review conducted prior to the expiration date pursuant to Section 204(f) of the Federal Land Policy and Management Act of 1976, 43 U.S.C. 1714(f), the Secretary of the Interior determines that the withdrawal shall be further extended. It has been determined that this action is not expected to have any significant effect on subsistence uses and needs pursuant to Section 810 of the Alaska National Interest Lands Conservation Act, 16 U.S.C. 3120.

Order

By virtue of the authority vested in the Secretary of the Interior by Section 204 of the Federal Land Policy and Management Act of 1976, 43 U.S.C. 1714, it is ordered as follows:

Public Land Order No. 6884 (56 FR 49847 (1991)), as corrected (56 FR 56275, (1991)) which withdrew approximately 1,855 acres of National Forest System land from settlement, sale, location, or entry under the general land laws, including the United States mining laws (30 U.S.C. ch 2), but not from leasing under the mineral leasing laws, to protect recreational values of the Kenai River Recreation Area, the Russian River Campground Area, and the Lower Russian Lake Recreation Area, is hereby extended for an additional 20-year period until October 1, 2031.

Authority: 43 CFR 2310.4.

Dated: June 7, 2011.
Wilma A. Lewis,
Assistant Secretary—Land and Minerals Management.

[FR Doc. 2011-15484 Filed 6-21-11; 8:45 am]

BILLING CODE 4310-JA-P